NATIONAL AERONAUTICS AND SPACE ADMINISTRATION

[Notice (10-022)]

National Environmental Policy Act; Wallops Flight Facility Shoreline Restoration and Infrastructure Protection Program

AGENCY: National Aeronautics and Space Administration (NASA).

ACTION: Notice of availability of the Draft Programmatic Environmental Impact Statement (PEIS) for the Wallops Flight Facility (WFF) Shoreline Restoration and Infrastructure Protection Program (SRIPP).

SUMMARY: Pursuant to the National Environmental Policy Act, as amended, (NEPA) (42 U.S.C. 4321 et seq.), the Council on Environmental Quality Regulations for Implementing the Procedural Provisions of NEPA (40 CFR parts 1500-1508), and NASA's NEPA policy and procedures (14 CFR part 1216, subpart 1216.3), NASA has prepared and issued the Draft PEIS for the proposed SRIPP at WFF. The U.S. Department of the Interior, Minerals Management Service (MMS), and the U.S. Army Corps of Engineers have served as Cooperating Agencies in preparing the Draft PEIS.

NASA is proposing to implement a fifty-year design life storm damage reduction project at its WFF on Wallops Island, Virginia. The project would be implemented to reduce the potential for storm-induced physical damage to the over $1 billion in Federal and State assets on Wallops Island. The Draft PEIS examines in detail three project alternatives, each expected to provide substantial damage reduction from storms with intensities ranging up to approximately the 100-year return interval storm. Although some reduction in flooding can be expected under each alternative, the primary purpose of the proposal is not flood protection, rather it is moving destructive wave energy further away from the Wallops Island shoreline and the infrastructure behind it.

Alternative One, NASA's preferred alternative, would include extending the existing Wallops Island seawall up to a maximum of 1,400 meters (m) (4,600 feet [ft]) south and placing an estimated 2.5 million cubic meters (MCM) (3.2 million cubic yards [MCY]) of sand along the shoreline. Alternative Two would include the same seawall extension as Alternative One; however the sand placed along the shoreline would be less, at approximately 2.2 MCM (2.9 MCY). Under this alternative, NASA would also construct a groin perpendicular to the shoreline at the south end of the project site to limit the volume of nearshore sand being transported from the restored Wallops Island beach to the south. Alternative Three would entail the same seawall extension as in Alternatives One and Two; however, sand placement would be the least of the Alternatives at approximately 2.1 MCM (2.8 MCY). NASA would construct a single detached breakwater parallel to the shoreline at the south end of the project site to retain sand under Alternative Three. Under all three project alternatives, NASA would obtain the sand required for its initial beach nourishment from an unnamed shoal (referred to as Shoal A) located in Federal waters approximately 23 kilometers (km) (14 miles [mi]) east of Wallops Island. Sand for an expected nine future renourishment cycles could come from either Shoal A or a second offshore shoal in Federal waters referred to as Shoal B, approximately 31 km (19 mi) east of the project site. Additionally, NASA is considering transporting sand that accumulates on north Wallops Island to supplement its future renourishment needs (commonly known as “backpassing”). It is estimated that up to half of the required renourishment volumes could be obtained from “backpassing.” The No Action Alternative is to not implement the WFF SRIPP, but to continue making emergency repairs to the Wallops Island shoreline, as necessary.

NASA will hold a public comment meeting as part of the review of the Draft PEIS. The public meeting location and date as currently scheduled are provided under SUPPLEMENTARY INFORMATION below.

DATES: Interested parties are invited to submit comments on environmental issues and concerns, preferably in writing, on or before April 15, 2010, or 45 days from the date of publication in the Federal Register of the U.S. Environmental Protection Agency's Notice of Availability of the Draft SRIPP PEIS, whichever is later.

ADDRESSES: Comments submitted by mail should be addressed to 250/NEPA Manager, WFF Shoreline Restoration and Infrastructure Protection Program, NASA Goddard Space Flight Center's Wallops Flight Facility, Wallops Island, Virginia 23337. Comments may be submitted via e-mail to wff_shoreline_eis@majordomo.gsfc.nasa.gov.

The Draft PEIS may be reviewed at the following locations:

(a) Chincoteague Island Library, 4077 Main Street, Chincoteague, Virginia 23336 (757-336-3460).

(b) Eastern Shore Public Library, 23610 Front Street, Accomac, Virginia 23301 (757-787-3400).

(c) Northampton Free Library, 7401 Railroad Avenue, Nassawadox, Virginia 23413 (757-442-2839).

(d) NASA Wallops Flight Facility Technical Library, Building E-105, Wallops Island, Virginia 23337 (757-824-1065).

(e) NASA Headquarters Library, Room 1J20, 300 E Street, SW., Washington, DC 20546-0001 (202-358-0168).

A limited number of hard copies of the Draft PEIS are available, on a first request basis, by contacting 250/NEPA Manager, NASA WFF, Environmental Office, Code 250.W, Wallops Island, Virginia 23337; or electronic mail at wff_shoreline_eis@majordomo.gsfc.nasa.gov. The Draft SRIPP PEIS is available on the Internet in Adobe® portable document format at http://sites.wff.nasa.gov/code250/shoreline_eis.html. The Notice of Intent to prepare the Draft SRIPP PEIS, issued on March 24, 2009, is also available on the Internet at the same Web site address.

FOR FURTHER INFORMATION CONTACT: Additional information on the WFF SRIPP can be obtained by addressing an e-mail to wff_shoreline_eis@majordomo.gsfc.nasa.gov or by mailing to 250/NEPA Manager, WFF Shoreline Restoration and Infrastructure Protection Program, NASA Goddard Space Flight Center's Wallops Flight Facility, Wallops Island, Virginia 23337. Additional information about the WFF SRIPP and NASA's NEPA process may be found on the Internet at http://sites.wff.nasa.gov/code250/shoreline_eis.html.

SUPPLEMENTARY INFORMATION: The Draft PEIS addresses the environmental impacts associated with NASA's proposed implementation of a 50-year design life storm damage reduction program along the shoreline of Wallops Island. The environmental impacts of principal concern are those that could result from dredging sand from offshore shoals and from the construction of a sand retention structure at the south end of the project site.

The three action alternatives considered in the Draft PEIS would all provide the facilities on Wallops Island equal levels of storm damage reduction for the duration of the program. Each alternative would involve the establishment of an approximately 34 m (110 ft) wide dry beach along approximately 6,000 m (19,700 ft) of the Wallops Island shoreline to serve as a primary line of defense from destructive storm waves. In addition to the beach, a sand dune would be created to cover the ocean side of the existing and proposed seawall. The remaining portion of the fill would be placed underwater and would gradually slope to the east. It is expected that the fill alone would provide considerable damage reduction from a 30-year return interval storm. With the fill combined with the rock seawall, the project would provide substantial infrastructure damage reduction from up to an approximately 100-year return interval storm. A rock sand retention structure (a groin or breakwater) is included under Alternatives Two and Three, respectively, to slow the transport of sand from the project site and potentially reduce the amount of beach fill needed both initially and throughout the lifecycle of the project.

All three alternatives would involve an initial construction phase and future follow-on maintenance cycles. The initial construction phase would likely include three distinct elements spanning approximately three fiscal years:

Year 1 Activities—The existing rock seawall would be extended a minimum of 460 m (1,500 ft) up to a maximum of 1,400 m (4,600 ft) south. The actual length of seawall extension constructed in Year 1 would be based upon available funding; however, additional lengthening (up to the 1,400 m [4,600 ft] total length) would be accomplished in future years as funding becomes available.

Year 2 Activities—Approximately one-third of the sand necessary for beach nourishment would be placed along the central areas of the Wallops Island shoreline that are currently reinforced by the rock seawall. The objective for this first fill cycle would be to restore the deficit of sand caused by the continual erosion at the base of the seawall. Sand placement would likely involve removing sand from the shoal by hopper dredges and pumping the material onto the beach.

Year 3 Activities—The remaining sand needed to complete the beach nourishment would be placed along the Wallops Island shoreline. Additionally, under Alternatives Two and Three, the sand retention structure would be constructed.

Subsequent beach renourishment cycles would vary throughout the lifecycle of the proposed project. Factors dictating the frequency and magnitude of such actions would include project performance as revealed through ongoing monitoring, storm severity and frequency, and availability of funding. Given the dynamic nature of the ocean environment, and that exact locations and magnitude of renourishment cycles may fluctuate, additional NEPA documentation for renourishment actions may be prepared in the future, as appropriate. For each of the action alternatives considered in the PEIS, the renourishment cycle is anticipated to be every five years, totaling nine cycles over the fifty-year design life of the project.

In addition to the construction activities outlined for each of the three action alternatives, NASA would implement a rigorous monitoring program that would begin with construction in Year 1 and continue throughout the project. The intent of the monitoring program is to measure the performance of the project, and through adaptive management, make informed decisions regarding the need for renourishment, sand retention structures, and future storm damage reduction measures.

NASA plans to hold a public meeting to discuss the project and to solicit comments on the Draft SRIPP PEIS. The public meeting is currently scheduled for:

Tuesday, March 16, 2010, at the WFF Visitor Information Center, Route 175, Wallops Island, Virginia, 6 p.m.-9 p.m.

Written public input on environmental issues and concerns associated with the WFF SRIPP are hereby requested.

Olga M. Dominguez,
Assistant Administrator for Infrastructure.

[FR Doc. 2010-3896 Filed 2-25-10; 8:45 am]

BILLING CODE P